DEPARTMENT OF HOMELAND SECURITY

Coast Guard

[Docket No. USCG-2018-0046]

National Offshore Safety Advisory Committee; Vacancies

AGENCY: U.S. Coast Guard, Department of Homeland Security.

ACTION: Request for applications.

SUMMARY: The U.S. Coast Guard seeks applications for membership on the National Offshore Safety Advisory Committee. The National Offshore Safety Advisory Committee advises the Secretary of the Department of Homeland Security on matters and actions concerning activities directly involved with or in support of the exploration of offshore mineral and energy resources insofar as they relate to matters within U.S. Coast Guard jurisdiction. Applicants selected for service on the National Offshore Safety Advisory Committee via this solicitation will not begin their respective terms until January 31, 2019.

DATES: Completed applications should reach the U.S. Coast Guard on or before May 22, 2018.

ADDRESSES: Applicants should send a cover letter including a statement of interest in an appointment to the National Offshore Safety Advisory Committee that also identifies under which membership category the applicant is applying, along with a resume detailing the applicant's experience via one of the following methods:

• By Email: patrick.w.clark@uscg.mil.

• By Fax: (202) 372-8382 ATTN: Mr. Patrick Clark, Alternate Designated Federal Officer; or

• By Mail: Mr. Patrick W. Clark, Alternate Designated Federal Officer of the National Offshore Safety Advisory Committee, Commandant, (CG-OES-2)/NOSAC U.S. Coast Guard, 2703 Martin Luther King Jr. Avenue SE, STOP 7509, Washington, DC 20593-7509.

FOR FURTHER INFORMATION CONTACT: Mr. Patrick Clark, Alternate Designated Federal Officer of the National Offshore Safety Advisory Committee, Commandant, (CG-OES-2)/NOSAC U.S. Coast Guard, 2703 Martin Luther King Jr. Avenue SE., STOP 7509, Washington, DC 20593-7509; email patrick.w.clark@uscg.mil; telephone (202) 372-1358; fax (202) 372-8382.

SUPPLEMENTARY INFORMATION: The National Offshore Safety Advisory Committee is a Federal Advisory Committee established in accordance with the provisions of the Federal Advisory Committee Act (Title 5 U.S.C. Appendix) to advise the Secretary of the Department of Homeland Security on matters and actions concerning activities directly involved with or in support of the exploration of offshore mineral and energy resources insofar as they relate to matters within U.S. Coast Guard jurisdiction.

The Committee normally meets twice a year: Once in March in New Orleans, Louisiana, and then in September in Houston, Texas. Each National Offshore Safety Advisory Committee member serves a term of office up to three (3) years. Members may serve a maximum of two (2) consecutive terms. All members serve at their own expense and receive no salary or reimbursement of travel expenses, or other compensation from the Federal Government.

We will consider applications for the 4 positions listed below that will be vacant on January 31, 2019:

(a) One member representing companies, organizations, enterprises or similar entities engaged in offshore operations;

(b) One member representing companies, organizations, enterprises or similar entities providing diving services to the offshore industry;

(c) One member representing companies, organizations, enterprises or similar entities providing subsea engineering, construction or remotely operated vehicle support to the offshore industry; and,

(d) One member of the general public;

To be eligible, applicants for positions (a), (b), or (c) should be employed by companies, organizations, enterprises or similar entities associated with the exploration for, and the recovery of oil, gas and other mineral resources on the U.S. Outer Continental Shelf; and have expertise, knowledge and experience regarding the technology, equipment and techniques that are used or are being developed for use in the exploration for, and the recovery of, offshore mineral resources.

If you are selected as a member from the general public you will be appointed and serve as a Special Government Employee as defined in section 202(a) of Title 18 United States Code. As a candidate for appointment as a Special Government Employee, applicants are required to complete Confidential Financial Disclosure Reports (OGE Form 450). The U.S. Coast Guard may not release the reports or the information in them to the public except under an order issued by a Federal court or as otherwise provided under the Privacy Act (5 U.S.C. 552a). Only the Designated U.S. Coast Guard Ethics Official or his or her designee may release a Confidential Financial Disclosure Report. Applicants can obtain this form by going to the website of the Office of Government Ethics (www.oge.gov), or by contacting the individual listed above in FOR FURTHER INFORMATION CONTACT.

Registered lobbyists are not eligible to serve on Federal Advisory Committees in an individual capacity. See “Revised Guidance on Appointment of Lobbyist to Federal Advisory Committees, Boards and Commissions” (79 FR 47482, August 13, 2014). The position we list for a member from the general public would be someone appointed in their individual capacity and would be designated a Special Government Employee as defined in 202 (a) of Title 18, United States Code. Registered lobbyists are lobbyists as defined in Title 2 U.S.C. 1602 who are required by Title 2 U.S.C. 1603 to register with the Secretary of the Senate and the Clerk of the House of Representatives.

The Department of Homeland Security does not discriminate in selection of Committee members on the basis of race, color, religion, sex, national origin, political affiliation, sexual orientation, gender identity, marital status, disabilities and genetic information, age membership in an employee organization, or any other non-merit factor. The Department of Homeland Security strives to achieve a widely diverse candidate pool for all of its recruitment actions.

If you are interested in applying to become a member of the Committee, send your cover letter and resume to Mr. Patrick Clark, Alternate Designated Federal Officer of the National Offshore Safety Advisory Committee, via one of the transmittal methods in the ADDRESSES section by the deadline in the DATES section of this notice. All email submittals will receive email receipt confirmation.

Dated: March 20, 2018.
Jeffrey G. Lantz,
Director of Commercial Regulations and Standards.

[FR Doc. 2018-05944 Filed 3-22-18; 8:45 am]

BILLING CODE 9110-04-P